DEPARTMENT OF COMMERCE

National Oceanic and Atmospheric Administration

50 CFR Part 648

[RTID 0648-XB846]

Magnuson-Stevens Fishery Conservation and Management Act Provisions; Fisheries of the Northeastern United States; Amendment 8 to the Northeast Skate Complex Fishery Management Plan

AGENCY: National Marine Fisheries Service (NMFS), National Oceanic and Atmospheric Administration (NOAA), Commerce.

ACTION: Notice of Agency decision.

SUMMARY: NMFS approves Amendment 8 to the Northeast Skate Complex Fishery Management Plan, as submitted by the New England Fishery Management Council. This amendment updates the management objectives of the skate fishery management plan, which have not been changed since the original plan was adopted in 2003. The purpose of this action is to ensure that the skate management continues to reflect and address the current needs and condition of the skate fishery.

DATES: The amendment was approved on June 24, 2022.

ADDRESSES: The New England Fishery Management Council prepared a supporting document for this action that describes the proposed revisions to the Northeast Skate management objectives and consistency with applicable law. NMFS prepared a Categorical Exclusion (CE) for this action in compliance with the National Environmental Policy Act, detailing why this action is administrative in nature and may be categorically excluded from requirements to prepare either an Environmental Impact Statement or Environmental Assessment. Copies of the Council document for Amendment 8, the CE, and other supporting documents for this action, are available upon request from Thomas A. Nies, Executive Director, New England Fishery Management Council, 50 Water Street, Newburyport, MA 01950. These documents are also accessible via the internet at https://www.nefmc.org/management-plans/skates.

FOR FURTHER INFORMATION CONTACT: Cynthia Ferrio, Fishery Policy Analyst, (978) 281-9180.

SUPPLEMENTARY INFORMATION:

Background

The New England Fishery Management Council manages a complex of seven skate species (barndoor, clearnose, little, rosette, smooth, thorny, and winter skate) off the New England and mid-Atlantic coasts under the Northeast Skate Complex Fishery Management Plan (FMP). This FMP was originally adopted in 2003, and the FMP management goal and objectives have been unchanged since that time. This action updates two of the seven management objectives of the Northeast Skate FMP, with the intent to ensure that skate management continues to reflect and address the current needs and condition of the skate fishery.

Over the course of several meetings throughout 2021, the Council determined that a few aspects within the existing FMP objectives are out of date and should be revised. These updates were originally included in Amendment 5 to the Northeast Skate FMP (85 FR 84304), and subsequently Framework Adjustment 9 to the FMP (86 FR 64186), before both actions were discontinued. On February 1, 2022, the Council voted to submit the revisions to the Northeast Skate FMP objectives as Amendment 8. Although FMP objectives guide management decisions for the skate fishery, they are not formally codified within the regulatory text, and the changes within this action are administrative in nature with no immediate or direct impact on the fishery and/or the skate regulations.

NMFS published a Notification of Availability (NOA) for Amendment 8 in the Federal Register on April 1, 2022 (87 FR 19063), with a comment period ending on May 31, 2022. See the Comments and Responses section for additional detail.

The Magnuson-Stevens Fishery Conservation and Management Act (Magnuson-Stevens Act) allows NMFS as the implementing agency to approve, partially approve, or disapprove measures recommended by the Council in an amendment based on whether the action is consistent with the FMP, the Magnuson-Stevens Act and its National Standards, and other applicable law. After considering public comment on the NOA, NMFS approved Amendment 8 in its entirety on June 24, 2022. This notice announces the Agency's decision to approve Amendment 8.

Approved Action

NMFS is approving Amendment 8 in its entirety as adopted by the Council. This action revises two of the seven objectives of the Northeast Skate Complex FMP, to update guidance for regulatory decisions and to ensure that skate management continues to reflect and address the current needs and condition of the fishery. Prior to revision, these objectives referenced some rebuilt species of skate as overfished, and future goals for the fishery that have already been accomplished. Amendment 8 updates skate management objectives 2 and 5 to read as follows:

• Objective 2: Implement measures to: protect any overfished species of skates and increase their biomass to target levels and prevent overfishing of the species in the Northeast skate complex—this may be accomplished through management measures in other FMPs (groundfish, monkfish, scallops), skate-specific management measures, or a combination, as necessary.

• Objective 5: Promote and encourage skate research for critical biological, ecological, and fishery information based on the research needs identified and updated by the Council.

Additional information on this action can be found in the Council document and CE for this amendment (See ADDRESSES).

Comments and Responses

NMFS received one comment during the public comment period for this action. The comment was not directly responsive to the action, but concerned the overall preservation of skate species. NMFS agrees that conservation of the skate resource is important, and the revision of management goals and objectives in this action will help achieve this purpose. After careful consideration of the received comment, NMFS is approving Amendment 8 in its entirety.

Changes From the Proposed Action

There are no changes to the action recommended by the Council and described in the Notification of Availability for Amendment 8 to the Northeast Skate Complex FMP.

Authority: 16 U.S.C. 1801 et seq.

Dated: June 24, 2022.
Samuel D. Rauch, III,
Deputy Assistant Administrator for Regulatory Programs, National Marine Fisheries Service.

[FR Doc. 2022-13970 Filed 6-29-22; 8:45 am]

BILLING CODE 3510-22-P